ENVIRONMENTAL PROTECTION AGENCY

[EPA-HQ-OPPT-2017-0408; FRL-9969-17]

Certain New Chemicals; Receipt and Status Information for August 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from August 1, 2017 to August 31, 2017.

DATES: Comments identified by the specific case number provided in this document, must be received on or before November 22, 2017.

ADDRESSES: Submit your comments, identified by docket identification (ID) number EPA-HQ-OPPT-2017-0408, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR parts 2.

2. Tips for preparing your comments. When preparing and submitting your comments, see the commenting tips at http://www.epa.gov/dockets/comments.html.

II. What action is the Agency taking?

This document provides receipt and status reports, which cover the period from August 1, 2017 to August 31, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 42 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From August 1, 2017 to August 31, 2017
Case No. | Received date | Projected notice end date | Manufacturer /importer | Use | Chemical
P-17-0003 | 8/8/2017 | 11/6/2017 | CBI | (G) Printing ink applications | (G) Styrene(ated) copolymer with alkyl(meth)acrylate, and (meth)acrylic acid.
P-17-0228 | 8/14/2017 | 11/12/2017 | CBI | (G) Coating for displays | (G) 2′-fluoro-4″-alkyl-4-propyl-1,1′:4′,1″-terphenyl.
P-17-0229 | 8/14/2017 | 11/12/2017 | CBI | (G) Coating for displays | (G) 4-ethyl-2′-fluoro-4″-alkyl-1,1′:4′,1″-terphenyl.
P-17-0235 | 8/22/2017 | 11/20/2017 | CBI | (G) Anti-agglomerate | (G) Amidoamino quaternary ammonium salt.
P-17-0239 | 8/11/2017 | 11/9/2017 | CBI | (G) Adhesive for open non-descriptive use | (G) Substituted carboxylic acid, polymer with 2,4-diisocyanato-1-methylbenzene, hexanedioic acid, alpha-hydro-omega-hydroxypoly[oxy(methyl-1,2-ethanediyl)], 1,1′-methylenebis[4-isocyanatobenzene], 2,2′-oxybis[ethanol], 1,1′-oxybis[2-propanol] and 1,2-propanediol.
P-17-0245 | 8/15/2017 | 11/13/2017 | CBI | (G) Adhesive for open, non-dispersive use | (G) Unsaturated polyfluoro ester.
P-17-0270 | 8/9/2017 | 11/7/2017 | CBI | (G) Low refractive index coating | (G) Alkyl perfluorinated acryloyl ester.
P-17-0281 | 8/1/2017 | 10/30/2017 | CBI | (G) Water reducible resin | (G) Polysiloxane-polyester polyol carboxylate.
P-17-0312 | 8/1/2017 | 10/30/2017 | CBI | (G) Additive for electrocoat formulas | (G) Organic acid, compds. with bisphenol a-epichlorohydrin-polypropylene glycol diglycidyl ether polymer-disubstituted amine-disubstituted polypropylene glycol reaction products.
P-17-0313 | 8/1/2017 | 10/30/2017 | CBI | (G) Additive for electrocoat formulas | (G) Phenol, 4,4′-(1-methylethylidene)bis-, polymer with 2-(chloromethyl)oxirane and alpha-(2-oxiranylmethyl)-omega-(2-oxiranylmethoxy)poly[oxy(methyl-1,2-ethanediyl)], reaction products with disubstituted amine and disubstituted polypropylene glycol, organic acid salts.
P-17-0313 | 8/1/2017 | 10/30/2017 | CBI | (G) Additive for electrocoat formulas | (G) Phenol, 4,4′-(1-methylethylidene)bis-, polymer with 2-(chloromethyl)oxirane and alpha-(2-oxiranylmethyl)-omega-(2-oxiranylmethoxy)poly[oxy(methyl-1,2-ethanediyl)], reaction products with disubstituted amine and disubstituted polypropylene glycol, organic acid salts.
P-17-0314 | 8/1/2017 | 10/30/2017 | CBI | (G) Additive for electrocoat formulas | (G) Organic acid, 2-substituted-, compds. with bisphenol a-epichlorohydrin-polypropylene glycol diglycidyl ether polymer-disubstituted amine-disubstituted polypropylene glycol reaction products.
P-17-0315 | 8/1/2017 | 10/30/2017 | CBI | (G) Additive for electrocoat formulas | (G) Phenol, 4,4′-(1-methylethylidene)bis-, polymer with alpha-(2-substituted-methylethyl)-omega-(2-substituted-methylethoxy)poly[oxy(methyl-1,2-ethanediyl)], 2-(chloromethyl)oxirane and alpha-(2-oxiranylmethyl)-omega-(2-oxiranylmethoxy)poly[oxy(methyl-1,2-ethanediyl)], alkylphenyl ethers, reaction products with disubstituted amine, organic acid salts.
P-17-0316 | 8/1/2017 | 10/30/2017 | CBI | (G) Additive for electrocoat formulas | (G) Organic acid, compds. with bisphenol a-epichlorohydrin-disubstituted polypropylene glycol-polypropylene glycol diglycidyl ether polymer alkylphenyl ethers-disubstituted amine reaction products.
P-17-0317 | 8/1/2017 | 10/30/2017 | CBI | (G) Additive for electrocoat formulas | (G) Organic acid, compds. with bisphenol a-epichlorohydrin-polypropylene glycol diglycidyl ether polymer-disubstituted polypropylene glycol reaction products.
P-17-0319 | 8/14/2017 | 11/12/2017 | Inolex Chemical Company | (S) This material will be used an an emollient for a fabric softener/conditioning product | (S) L-isoleucine, c18-22-alkyl esters, ethanesulfonates.
P-17-0320 | 8/14/2017 | 11/12/2017 | H.B. Fuller Company | (G) Industrial Adhesive | (G) Dodecanedioic acid and 1,6-hexanediol polymer with 3-hydroxy-2,2-dimethylpropyl 2,2-dimethylhydracrylate, neopentylglycol, 1,2 ethanediol, adipic acid, isophthalic acid, terephthalic acid, 2-oxooxopane, bayflex 2002h and 1,1′-methylenebis[isocyanatobenzene].
P-17-0325 | 8/8/2017 | 11/6/2017 | Cekal Specialties, Inc | (S) Used in textile industry in bleaching and dyeing operations as a dispersing agent, for professional use according to the instructions in the Technical Bulletin | (S) 2-propenoic acid, polymer with 2-methyl-2-((1-oxo-2-propenyl)amino)-1-propanesulfonic acid.
P-17-0328 | 8/9/2017 | 11/7/2017 | AGC Electronics America Inc | (S) Tetrahydrofuran-2-carboxylic acid is used as an additive for controlling selectivity of Chemical Mechanical Polishing (CMP) Slurry used for Semiconductor wafer polishing. The additive helps to selectively protect certain thin film layers from polishing while some other layers are being polished from the wafer surface during CMP process | (S) Tetrahydrofuran-2-carboxylic acid.
P-17-0329 | 8/30/2017 | 11/28/2017 | CBI | (G) Intermediate used in synthesis | (G) Substituted haloaromatic trihaloalkyl-aromatic alkanone.
P-17-0343 | 8/9/2017 | 11/7/2017 | CBI | (G) Corrosion Inhibitor in Aqueous Systems | (G) Modified benzimidazole salt.
P-17-0355 | 8/23/2017 | 11/21/2017 | CBI | (G) Site intermediate | (G) Benzoic acid, alkyl derivs.
P-17-0366 | 8/9/2017 | 11/7/2017 | CBI | (G) Dispersant | (G) Fatty acids polymer with alkylamino-alkylsulfonic-poly glycol-blocked compounds with alkylamine.
P-17-0367 | 8/4/2017 | 11/2/2017 | CBI | (S) Intermediate for use in the manufacture of polymers | (G) Vegetable oil, polymer with alkanedioic acid, alkali lignin, diethylene glycol- and polyol-depolymd. poly(ethylene terephthalate) waste plastics and arylcarboxylic acid anhydride.
P-17-0368 | 8/4/2017 | 11/2/2017 | CBI | (S) Intermediate for use in the manufacture of polymers | (G) Vegetable oil, polymer with alkanedioic acid, alkali lignin, diethylene glycol- and polyol-depolymd. poly(ethylene terephthalate) waste plastics.
P-17-0369 | 8/4/2017 | 11/2/2017 | CBI | (S) Intermediate for use in the manufacture of polymers | (G) Waste plastics, poly(ethylene terephthalate), depolymd. with diethylene glycol, polymers with alkanedioic acid, alkali lignin and arylcarboxylic acid anhydride.
P-17-0370 | 8/4/2017 | 11/2/2017 | CBI | (S) Intermediate for use in the manufacture of polymers | (G) Waste plastics, poly(ethylene terephthalate), depolymd. with diethylene glycol and polyol, polymers with alkanedioic acid, alkali lignin and arylcarboxylic acid anhydride.
P-17-0371 | 8/4/2017 | 11/2/2017 | CBI | (S) Intermediate for use in the manufacture of polymers | (G) Vegetable oil, polymer with alkanedioic acid, alkali lignin, diethylene glycol- and polyol-depolymd. poly(ethylene terephthalate) waste plastics and arylcarboxylic acid anhydride.
P-17-0372 | 8/4/2017 | 11/2/2017 | CBI | (S) Intermediate for use in the manufacture of polymers | (G) Vegetable oil, polymer with alkanedioic acid, alkali lignin, diethylene glycol-depolymd. poly(ethylene terephthalate) waste plastics and arylcarboxylic acid anhydride.
P-17-0374 | 8/17/2017 | 11/15/2017 | Allnex USA Inc. | (S) Ultra Violet curable coating resin | (G) Polysiloxanes, di alkyl , substituted alky group-terminated, alkoxylated, reaction products with alkanoic acid, isocyanate substituted-alkyl carbomonocycle and polyol.
P-17-0375 | 8/18/2017 | 11/16/2017 | CBI | (G) Paint additive | (G) 2-oxepanone,polymer with diisocyanatohexane, alkyl-((hydroxyalkyl)-alkanediol and isocyanato-(isocyanatoalkyl)-trialkylcyclohexane, di-alkyl malonate- and polyalkylene glycol mono-me ether-blocked, reaction products with (methylalkyl)-propanamine.
P-17-0376 | 8/23/2017 | 11/21/2017 | CBI | (G) Processing additive | (G) 2-propenoic acid, 2-methyl-, 2-hydroxyethyl ester polymer with hexadecyl 2-propenoate, octadecyl 2-propenoate and 3,3,4,4,5,5,6,6,7,7,8,8,8-tridecasubstitutedoctyl 2-propenoate.
P-17-0377 | 8/24/2017 | 11/22/2017 | CBI | (G) Processing additive | (G) 2-propenoic acid, 2-methyl-, 2-hydroxyethyl ester, polymer with hexadecyl 2-propenoate, octadecyl 2-propenoate and 3,3,4,4,5,5,6,6,7,7,8,8,8-tridecasubstitutedoctyl 2-methyl-2-propenoate.
P-17-0378 | 8/23/2017 | 11/21/2017 | CBI | (G) Processing additive | (G) 2-propenoic acid, 2-methyl-, hexadecyl ester, polymer with 2-hydroxyethyl 2-methyl-2-propenoate, octadecyl 2-methyl-2-propenoate and 3,3,4,4,5,5,6,6,7,7,8,8,8-tridecasubstitutedoctyl 2-propenoate.
P-17-0379 | 8/23/2017 | 11/21/2017 | CBI | (G) Processing additive | (G) 2-propenoic acid, 2-methyl-, hexadecyl ester, polymer with 2-hydroxyethyl 2-methyl-2-propenoate, octadecyl 2-methyl-2-propenoate and 3,3,4,4,5,5,6,6,7,7,8,8,8-tridecasubstitutedoctyl 2-methyl-2-propenoate.
P-17-0380 | 8/24/2017 | 11/22/2017 | CBI | (G) Open, non-dispersive use | (G) Amine- and hydroxy-functional acrylic polymer.
P-17-0381 | 8/24/2017 | 11/22/2017 | CBI | (G) Open, non-dispersive use | (G) Hydroxy acrylic polymer, methanesulfonates.
P-17-0382 | 8/24/2017 | 11/22/2017 | Chemtura Corporation | (S) Friction modifier for motor oil lubricants | (S) Amides, tallow, n,n-bis(2-ydroxypropyl).
P-17-0383 | 8/25/2017 | 11/23/2017 | Toagosei America Inc. | (G) Binder | (G) Alkenoic acid, polymer will ammonium alkenoate (1:1) and polyalkylenediol diacrylate.
P-17-0386 | 8/30/2017 | 11/28/2017 | Durez Corporation | (S) Use as an additive as a processing aid for automotive tire stock | (S) Cashew, nutshell liquid, polymer with formaldehyde, phenol and resorcinol.
P-17-0387 | 8/30/2017 | 11/28/2017 | CBI | (G) Paint | (G) Dicarboxylic acids, polymers with alkanoic acid, alkanediol, susbtituted-alkylalkanoic acid, substituted alkyl carbomonocyle, alkanedioic acid and alkanediol, alkanolamine blocked, compds with alkanolamine.
P-17-0388 | 8/30/2017 | 11/28/2017 | CBI | (G) Paint | (G) Dicarboxylic acids, polymers with alkanoic acid, alkanediol, susbtituted-alkylalkanoic acid, substituted alkyl carbomonocyle, alkanedioic acid and alkanediol, alkanolamine blocked, compds with alkanolamine.

For the 13 NOCs received by EPA during this period, Table 2 provides the following information (to the extent that such information is not claimed as CBI): The EPA case number assigned to the NOC; the date the NOC was received by EPA; the projected date of commencement provided by the submitter in the NOC; and the chemical identity.

Table 2—NOCs Received From August 1, 2017 to August 31, 2017
Case No. | Received date | Commencement date | Chemical
J-17-0008 | 8/2/2017 | 8/2/2017 | (G) Genetically modified microorganism.
P-14-0364 | 8/16/2017 | 8/2/2017 | (S) Phenol, styrenated, reaction products with polyethylene glycol and 2-[(2-propen-1-yloxy)methyl]oxirane.
P-15-0143 | 8/1/2017 | 7/17/2017 | (G) Metallic salt of aromatic carboxylic acid.
P-15-0484 | 8/22/2017 | 7/28/2017 | (G) Amino benzyl acrylic copolymer.
P-15-0535 | 8/7/2017 | 7/11/2016 | (G) Propanoic acid, 3-hydroxy-2-(hydroxymethyl)-2-methyl-, compds. with hydroxylamine-blocked polymethylenepolyphenylene isocyanate-polymeric diol.
P-15-0660 | 8/4/2017 | 8/19/2016 | (G) Alicyclic anhydride, polymer with alkanepolyol, 2-(chloromethyl)oxirane, 4,4′-(1-methylethylidene)bis[phenol] and cyclic ester.
P-15-0662 | 8/7/2017 | 8/26/2016 | (G) Alicyclic anhydride, polymer with alkanepolyol, 2-(chloromethyl)oxirane, , alkanediol,4,4′-(1-methylethylidene)bis[phenol] and cyclic ester.
P-16-0553 | 8/15/2017 | 7/20/2017 | (G) 2-propenoic acid ester, polymer with alkyl propenoate, reaction products with alkylamine and aldehyde.
P-16-0578 | 8/1/2017 | 7/10/2017 | (G) Alkenoic acid, alkyester, polymer with n-(dialkyl-oxoalkyl)-alkenamide, alkenylbenzene, alkyl alkenoate and alkenoic acid.
P-17-0118 | 8/23/2017 | 8/22/2017 | (S) 1,6,10-dodecatriene, 7,11-dimethyl-3-methylene-, 6(e)-, homopolymer, 2-hydroxyethyl-terminated.
P-17-0231 | 8/4/2017 | 8/3/2017 | (G) Fatty acids, polymers with benzoic acid, cyclohexanedicarboxylic acid anhydride, aliphatic diisocyanate, alkyl diol, alkyl triol, pentaerythritol, phthalic anhydride, polyalkylene glycol amine, and aromatic dicarboxylate sulphonic acid and sodium salt.
P-17-0256 | 8/29/2017 | 8/15/2017 | (G) Carbopolycyclic dicarboxylic acid, dialkyl ester, polymer with dialkyl carbomonocyclic diester, dialkyl substituted carbomonocyclic diester alkali metal salt and alkanediol.
P-17-0272 | 8/16/2017 | 8/2/2017 | (G) Fatty acid amide alkyl amine salts.

Authority: 15 U.S.C. 2601 et seq.

Dated: October 12, 2017.
Pamela Myrick,
Director, Information Management Division, Office of Pollution Prevention and Toxics.

[FR Doc. 2017-22875 Filed 10-20-17; 8:45 am]

BILLING CODE 6560-50-P